DEPARTMENT OF COMMERCE

National Oceanic and Atmospheric Administration

RIN 0648-XV92

Marine Mammals; File No. 14610

AGENCY: National Marine Fisheries Service (NMFS), National Oceanic and Atmospheric Administration (NOAA), Commerce.

ACTION: Notice; issuance of permit amendment.

SUMMARY: Notice is hereby given that the Alaska Department of Fish and Game (ADFG), Division of Wildlife Conservation, Juneau, AK (Principal Investigator: Robert Small, Ph.D.) has been issued an amendment to Permit No. 14610 to conduct research on marine mammals.

ADDRESSES: The permit amendment and related documents are available for review upon written request or by appointment in the following office(s):

Permits, Conservation and Education Division, Office of Protected Resources, NMFS, 1315 East-West Highway, Room 13705, Silver Spring, MD 20910; phone (301)713-2289; fax (301)713-0376; and

Alaska Region, NMFS, P.O. Box 21668, Juneau, AK 99802-1668; phone (907)586-7221; fax (907)586-7249.

FOR FURTHER INFORMATION CONTACT: Tammy Adams or Carrie Hubard, (301)713-2289.

SUPPLEMENTARY INFORMATION: On April 20, 2010, notice was published in the Federal Register (75 FR 20565) that a request for a permit to conduct research on beluga whales (Delphinapterus leucas), endangered bowhead whales (Balaena mysticetus), gray whales (Eschrichtius robustus), and endangered humpback whales (Megaptera novaeangliae) had been submitted by the above-named applicant. The requested permit was issued on May 21, 2010 (75 FR 30383) for the beluga whale and gray whale projects under the authority of the Marine Mammal Protection Act of 1972, as amended (MMPA; 16 U.S.C. 1361 et seq.), and the regulations governing the taking and importing of marine mammals (50 CFR part 216). A decision on the bowhead whale and humpback whale projects was deferred pending completion of consultation under section 7 of the Endangered Species Act of 1973, as amended (ESA; 16 U.S.C. 1531 et seq.).

An amended permit has been issued under the authority of the MMPA, the regulations governing the taking and importing of marine mammals, the ESA, and the regulations governing the taking, importing, and exporting of endangered and threatened species (50 CFR parts 222-226). The permit has been amended to include remote biopsy and instrument attachment for bowhead and humpback whales. The amended permit is valid through the expiration date of the original permit, May 31, 2015.

In compliance with the National Environmental Policy Act of 1969 (42 U.S.C. 4321 et seq.), an environmental assessment (EA) was prepared analyzing the effects of the permitted activities on the human environment. Based on the analyses in the EA, NMFS determined that issuance of the permit amendment would not significantly impact the quality of the human environment and that preparation of an environmental impact statement was not required. That determination is documented in a Finding of No Significant Impact (FONSI), signed on August 2, 2010.

Dated: August 11, 2010.
P. Michael Payne,
Chief, Permits, Conservation and Education Division, Office of Protected Resources, National Marine Fisheries Service.

[FR Doc. 2010-20324 Filed 8-16-10; 8:45 am]

BILLING CODE 3510-22-S